DEPARTMENT OF HOMELAND SECURITY

Coast Guard

33 CFR Part 100

[Docket No. USCG-2012-0714]

RIN 1625-AA08

Special Local Regulation; Frogtown Races, Maumee River; Toledo, OH

AGENCY: Coast Guard, DHS.

ACTION: Notice of enforcement of regulation.

SUMMARY: The Coast Guard will enforce the special local regulation regulating vessel movement in all U.S. navigable waters of the Maumee River, Toledo, OH, from the Norfolk and Southern Railway Bridge at River Mile 1.80 to the Anthony Wayne Bridge at River Mile 5.16. This special local regulated area is necessary to ensure the safety of life and property on navigable waters immediately prior to, during, and immediately after the Frogtown Races. During the aforementioned period, the Coast Guard will enforce restrictions upon, and control movement of, vessels in a portion of the Captain of the Port Detroit zone.

DATES: The regulations in 33 CFR 100.928 will be enforced from 5 a.m. to 7 p.m. on September 27, 2014.

FOR FURTHER INFORMATION CONTACT: If you have questions on this notice, call or email MST2 Daniel O'Leary, Marine Safety Unit Toledo, 420 Madison Ave. Suite 700, Toledo, OH, 43604; telephone (419) 418-6028; email daniel.s.oleary@uscg.mil.

SUPPLEMENTARY INFORMATION: The Coast Guard will enforce the special local regulations listed in 33 CFR 100.928 Special Local Regulation; Frogtown Races, Maumee River, Toledo, OH. This special local regulation will be enforced from 5 a.m. until 7 p.m. on September 27, 2014. This special local regulation will encompass all navigable waters of the United States on the Maumee River, Toledo, OH, from the Norfolk and Southern Railway Bridge at River Mile 1.80 to the Anthony Wayne Bridge at River Mile 5.16.

Under the provisions of 33 CFR 100.928, vessels transiting within the regulated area shall travel at a no-wake speed and remain vigilant for event participants and safety craft. Frogtown participants and event safety vessels will yield right of way to commercial vessel traffic and shall follow directions given by the Coast Guard's on-scene representative or by event representatives during the event. The “on-scene representative” of the Captain of the Port Detroit is any Coast Guard commissioned, warrant, or petty officer or a Federal, State, or local law enforcement officer designated by or assisting the Captain of the Port to act on his behalf. The on-scene representative of the Captain of the Port Detroit will be aboard either a Coast Guard or Coast Guard Auxiliary vessel. The Captain of the Port, Sector Detroit or his on scene representative may be contacted via VHF Channel 16.

Dated: August 22, 2014.
R. Negron,
Commander, U.S. Coast Guard, Acting Captain of the Port Detroit.

[FR Doc. 2014-21979 Filed 9-12-14; 8:45 am]

BILLING CODE 9110-04-P